SECURITIES AND EXCHANGE COMMISSION

[File No. 500-1]

In the Matter of Amerex Group, Inc., AmeriChip International, Inc., Amish Naturals, Inc., Banker's Store Inc. (The), Champion Parts, Inc., and Gray Peaks, Inc., Order of Suspension of Trading

September 9, 2011.

It appears to the Securities and Exchange Commission that there is a lack of current and accurate information concerning the securities of Amerex Group, Inc. because it has not filed any periodic reports since the period ended March 31, 2009.

It appears to the Securities and Exchange Commission that there is a lack of current and accurate information concerning the securities of AmeriChip International, Inc. because it has not filed any periodic reports since the period ended August 31, 2008.

It appears to the Securities and Exchange Commission that there is a lack of current and accurate information concerning the securities of Amish Naturals, Inc. because it has not filed any periodic reports since the period ended December 28, 2008.

It appears to the Securities and Exchange Commission that there is a lack of current and accurate information concerning the securities of Banker's Store Inc. (The) because it has not filed any periodic reports since the period ended February 28, 2009.

It appears to the Securities and Exchange Commission that there is a lack of current and accurate information concerning the securities of Champion Parts, Inc. because it has not filed any periodic reports since the period ended July 1, 2007.

It appears to the Securities and Exchange Commission that there is a lack of current and accurate information concerning the securities of Gray Peaks, Inc. because it has not filed any periodic reports since the period ended September 30, 2007.

The Commission is of the opinion that the public interest and the protection of investors require a suspension of trading in the securities of the above-listed companies. Therefore, it is ordered, pursuant to Section 12(k) of the Securities Exchange Act of 1934, that trading in the securities of the above-listed companies is suspended for the period from 9:30 a.m. EDT on September 9, 2011, through 11:59 p.m. EDT on September 22, 2011.

By the Commission.
Jill M. Peterson,
Assistant Secretary.

[FR Doc. 2011-23476 Filed 9-9-11; 11:15 am]

BILLING CODE 8011-01-P